DEPARTMENT OF HOMELAND SECURITY

U.S. Citizenship and Immigration Services

Agency Information Collection Activities: Extension of a Currently Approved Information Collection; Comment Request

ACTION: 30-Day Notice of Information Collection Under Review: Petitioning Requirements for H-1C Nonimmigrant Classification; File No. OMB-26.

The Department of Homeland Security, U.S. Citizenship and Immigration Services (USCIS) has submitted the following information collection request to the Office of Management and Budget (OMB) for review and clearance in accordance with the Paperwork Reduction Act of 1995. The information collection was previously published in the Federal Register on December 28, 2004 at 69 FR 77764, allowed a 60-day public comment period. The USCIS did not receive any public comments on this information collection during that period.

The purpose of this notice is to allow an additional 30 days for public comments. Comments are encouraged and will be accepted until March 30, 2005. This process is conducted in accordance with 5 CFR 1320.10.

Written comments and suggestions from the public and affected agencies concerning the information collection should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Extension of a currently approved information collection.

(2) Title of the Form/Collection: Petitioning Requirements for H-1C Nonimmigrant Classification.

(3) Agency form number, if any, and the applicable component of the Department of Homeland Security sponsoring the collection: File No. OMB-26 (there is no agency form number), U.S. Citizenship and Immigration Services.

(4) Affected public who will be asked or required to respond, as well as a brief abstract: Primary: Individuals or Households. Public Law 106-95, Section 101(a)(15)(H)(i)(c) of the Immigration and Nationality Act allows petitioning hospitals to import registered nurses to work at those hospitals as nonimmigrant. The information collection is necessary for the CIS to make a determination that the eligibility requirements and conditions are met regarding the nurse/beneficiary.

(5) An estimate of the total number of respondents and the amount of time estimated for an average respondent to respond: 2,000 responses at 2 hours per response.

(6) An estimate of the total public burden (in hours) associated with the collection: 4,000 annual burden hours.

If you have comments, suggestions, or need a copy of the information collection, please contact Mr. Richard A. Sloan, Director, Regulatory Management Division, U.S. Citizenship and Immigration Services, U.S. Department of Homeland Security, 111 Massachusetts Avenue, NW., Washington, DC 20529; 202-372-8377.

Dated: February 10, 2005.
Richard A. Sloan,
Director, Regulatory Management Division, U.S. Citizenship and Immigration Services.

[FR Doc. 05-3855 Filed 2-25-05; 8:45 am]

BILLING CODE 4410-10-P